Title 3—

The President

Proclamation 10793 of August 23, 2024

Overdose Awareness Week, 2024

By the President of the United States of America

A Proclamation

During Overdose Awareness Week, we mourn those who have lost their lives to overdose deaths. We acknowledge the devastating toll the opioid epidemic has taken on individuals, families, and communities across America. We reflect on the progress we have made so far in reducing the number of annual overdose deaths and protecting American lives—and how much more there is to do. And we reaffirm our commitment to doing more to disrupt the supply of fentanyl and other synthetic opioids and support those who suffer with substance use disorder and their families in all of our communities.

My Administration made beating the opioid epidemic a key priority in my Unity Agenda for the Nation, calling for Republicans and Democrats to work together to stop fentanyl from flowing into our communities, hold those who brought it here accountable, and deliver life-saving medication and care across America.

We are working to tackle this crisis through a comprehensive approach, including by expanding access to evidence-based prevention, treatment, harm reduction, and recovery support services as well as reducing the supply of illicit drugs. We have expanded access to life-saving treatments, like medications to treat opioid use disorder, and have increased the number of health care providers who can prescribe these medications by 15 times. In February 2024, the Department of Health and Human Services issued a rule to comprehensively update the regulations in governing Opioid Treatment Programs for the first time in 20 years—removing barriers to the treatment of substance use disorder and expanding access to care. My Administration has made historic investments in the State Opioid Response and Tribal Opioid Response programs to improve prevention; expand treatment; and deliver free, life-saving medications across America. Already, this program has delivered nearly 10 million kits of opioid overdose reversal medications, such as naloxone.

We also continue to fight the stigmatization that surrounds substance use and accidental overdose so that people feel comfortable reaching out for help when they need it. Naloxone is now available over-the-counter for people to purchase at their local grocery stores and pharmacies. We also launched the White House Challenge to Save Lives from Overdose and several awareness campaigns, raising awareness and securing commitments from local governments and cross-sector organizations to increase training on and access to opioid overdose reversal medications in schools, worksites, transit systems, and other places where overdose may occur in our communities. My Fiscal Year 2025 Budget requests $22 billion to expand substance use treatment and help more Americans achieve and stay in recovery.

Under my Administration, Federal law enforcement agents are keeping more deadly drugs out of our communities than ever before. We are seizing deadly drugs at our borders so that illicit drugs never reach our neighborhoods. Officials have stopped more illicit fentanyl at ports of entry over the last 2 fiscal years than in the previous 5 fiscal years combined. The Department of Justice has prosecuted leaders of the world's largest and most powerful drug cartel along with thousands of drug traffickers. The Department of the Treasury has sanctioned more than 300 people and organizations involved in the global illicit drug trade. I have also deployed cutting-edge drug detection technology across our southwest border, and I continue to call on the Congress to strengthen border security, increase penalties on those who bring deadly drugs into our communities, and close loopholes that drug traffickers exploit. And in July 2024, I issued a National Security Memorandum that calls on all relevant Federal departments and agencies to work collaboratively to do even more than they are already doing to stop the supply of illicit fentanyl and other synthetic opioids into our country.

I am also committed to working with partners across the globe to address this crisis. Last year, I negotiated the re-launch of counternarcotics cooperation between the United States and the People's Republic of China—which has led to increased law enforcement coordination, increased efforts to tackle illicit financing of drug cartels, and increased regulation of certain precursor chemicals. I have increased counternarcotics cooperation with other key foreign governments; launched the Global Coalition to Address Synthetic Drug Threats, which brings together more than 150 countries in the fight against drug trafficking cartels; put in place new initiatives between the United States, Mexico, and Canada targeting the supply of illicit drugs; and made countering fentanyl and other synthetic opioids a key priority of the G7.

Now for the first time in 5 years, the number of overdose deaths in the United States has started to decline. But even one death is one too many, and far too many Americans continue to lose loved ones to fentanyl.

Today I grieve with all the families and friends who have lost someone to an overdose. This is a time to act. And this is a time to stand together—for all those we have lost and all the lives we can still save.

NOW, THEREFORE, I, JOSEPH R. BIDEN JR., President of the United States of America, by virtue of the authority vested in me by the Constitution and the laws of the United States, do hereby proclaim August 25 through August 31, 2024, as Overdose Awareness Week. I call upon citizens, government agencies, civil society organizations, health care providers, and research institutions to raise awareness of substance use disorder so that our Nation can combat stigmatization, promote treatment, celebrate recovery, and strengthen our collective efforts to prevent overdose deaths. August 31 also marks Overdose Awareness Day, on which we honor and remember those who have lost their lives to the overdose epidemic.

IN WITNESS WHEREOF, I have hereunto set my hand this twenty-third day of August, in the year of our Lord two thousand twenty-four, and of the Independence of the United States of America the two hundred and forty-ninth.

[FR Doc. 2024-19441

Filed 8-27-24; 8:45 am]

Billing code 3395-F4-P